DEPARTMENT OF THE TREASURY

Internal Revenue Service

26 CFR Part 1

[REG-128203-02]

RIN 1545-BA81

Partnership Transactions Involving Long Term Contracts; Correction

AGENCY: Internal Revenue Service (IRS), Treasury.

ACTION: Correction to notice of proposed rulemaking.

SUMMARY: This document contains a correction to a proposed regulation that was published in the Federal Register on May 15, 2002 (68 FR 46516), relating to partnership transactions involving contracts accounted for under a long term contract method of accounting.

FOR FURTHER INFORMATION CONTACT: Richard Probst (202) 622-3060 (not a toll free number).

SUPPLEMENTARY INFORMATION:

Background

The proposed regulations that are the subject of this correction are under section 460 of the Internal Revenue Code.

Need for Correction

As published, the proposed regulations (REG-128203-02), contains an error that may prove to be misleading and is in need of clarification.

Correction of Publication

Accordingly, the publication of the proposed regulations (REG-128203-02), which are the subject of FR Doc. 03-18484, is corrected as follows:

On page 46518, column 1, in the preamble under the paragraph heading “1. Contribution of a Contract to a Partnership”, line 8 from the top of the column, the language “to the contract, and the contributes the” is corrected to read “to the contract, and then contributes the”.

Cynthia E. Grigsby,
Acting Chief, Publications and Regulations Branch, Legal Processing Division, Associate Chief Counsel, (Procedure and Administration).

[FR Doc. 03-27498 Filed 10-30-03; 8:45 am]

BILLING CODE 4830-01-P